DEPARTMENT OF COMMERCE

International Trade Administration

A-570-863

Honey from the People's Republic of China: Notice of Rescission of Antidumping Duty New Shipper Reviews

AGENCY: Import Administration, International Trade Administration, Department of Commerce.

SUMMARY: On July 31, 2006, the Department of Commerce (“the Department”) published in the Federal Register (71 FR 43109) a notice announcing the initiation of new shipper reviews of the antidumping duty order on honey from the People's Republic of China (“PRC”). The period of review (“POR”) is December 1, 2005, to June 30, 2006. This review is now being rescinded for Qingdao Aolan Trade Co., Ltd., and Hangzhou Golden Harvest Health Industry Co., Ltd., because the requesting parties withdrew their requests in a timely manner.

EFFECTIVE DATE: October 23, 2006.

FOR FURTHER INFORMATION CONTACT: Catherine Bertrand or Anya Naschak, AD/CVD Operations, Office 9, Import Administration, U.S. Department of Commerce, 14th Street and Constitution Avenue, N.W., Room 4003, Washington, D.C. 20230; telephone: (202) 482-3207 or (202) 482-6375, respectively.

SUPPLEMENTARY INFORMATION:

Background

On December 10, 2001, the Department published in the Federal Register an antidumping duty order covering honey from the PRC. See Notice of Amended Final Determination of Sales at Less Than Fair Value and Antidumping Duty Order: Honey from the People's Republic of China, 66 FR 63670 (December 10, 2001). On June 21, 2006, Qingdao Aolan Trade Co., Ltd. (“Qingdao Aolan”), and Hangzhou Golden Harvest Health Industry Co., Ltd. (“Golden Harvest”), requested, in accordance with section 751(a)(2)(B) of the Tariff Act of 1930, as amended (“the Act”), and 19 CFR 351.214(d) of the Department's regulations, that the Department conduct new shipper reviews of the antidumping duty order on honey from the PRC for their respective companies covering the period December 1, 2005, through June 30, 2006.

On July 20, 2006, the Department initiated new shipper reviews of Qingdao Aolan and Golden Harvest. See Honey from the People's Republic of China: Initiation of New Shipper Anti-Dumping Duty Reviews, 71 FR 43109 (July 31, 2006). On September 15, 2006, Qingdao Aolan filed a letter withdrawing its request for a new shipper review. On September 27, 2006, Golden Harvest filed a letter withdrawing its request for a new shipper review.

Rescission of Review

19 CFR 351.214(f)(1) states that if a party that requested a new shipper review withdraws the request within 60 days of the publication of the notice of initiation of the requested review, the Secretary will rescind the review. Qingdao Aolan and Golden Harvest withdrew their review requests within the 60-day deadline, in accordance with 19 CFR 351.214(f)(1). Accordingly, we are rescinding these new shipper reviews of the antidumping duty order on honey from the PRC covering the period December 1, 2005, through June 30, 2006, with respect to Qingdao Aolan and Golden Harvest.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(2)(B) and 777(i) of the Act and 19 CFR 351.214(f)(3).

Dated: October 16, 2006.
Stephen J. Claeys,
Deputy Assistant Secretary for Import Administration.

[FR Doc. E6-17714 Filed 10-20-06; 8:45 am]

BILLING CODE 3510-DS-S